DEPARTMENT OF TRANSPORTATION

Federal Motor Carrier Safety Administration

[Docket No. FMCSA-2005-22194]

Qualification of Drivers; Exemption Applications; Vision

AGENCY: Federal Motor Carrier Safety Administration (FMCSA), DOT.

ACTION: Notice of applications for exemption from the vision standard; request for comments.

SUMMARY: This notice publishes FMCSA's receipt of applications from 49 individuals for an exemption from the vision requirement in the Federal Motor Carrier Safety Regulations. If granted, the exemptions would enable these individuals to qualify as drivers of commercial motor vehicles (CMVs) in interstate commerce without meeting the vision standard prescribed in 49 CFR 391.41(b)(10).

DATES: Comments must be received on or before October 31, 2005.

ADDRESSES: You may submit comments identified by any of the following methods. Please identify your comments by the DOT DMS Docket Number FMCSA-2005-21254.

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

Instructions: All submissions must include the agency name and docket number for this notice. For detailed instructions on submitting comments and additional information on the rulemaking process, see the Public Participation heading of the SUPPLEMENTARY INFORMATION section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Dr. Mary D. Gunnels, Office of Bus and Truck Standards and Operations, (202) 366-4001, FMCSA, Department of Transportation, 400 Seventh Street, SW., Washington, DC 20590-0001. Office hours are from 8 a.m. to 5 p.m., e.t., Monday through Friday, except Federal holidays.

SUPPLEMENTARY INFORMATION: Public Participation: The DMS is available 24 hours each day, 365 days each year. You can get electronic submission and retrieval help guidelines under the “help” section of the DMS Web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 49 individuals listed in this notice have recently requested an exemption from the vision requirement in 49 CFR 391.41(b)(10), which applies to drivers of CMVs in interstate commerce. Accordingly, the agency will evaluate the qualifications of each applicant to determine whether granting the exemption will achieve the required level of safety mandated by the statute.

Qualifications of Applicants

Francis M. Anzulewicz

Mr. Anzulewicz, 54, has had macular degeneration in his right eye since 1999. The best-corrected visual acuity in his right eye is 20/60 and in the left, 20/20. His optometrist examined him in 2004 and noted, “In my opinion, Francis Anzulewicz has sufficient vision to perform the driving tasks required for commercial vehicles.” Mr. Anzulewicz reported that he has driven straight trucks for 27 years, accumulating 540,000 miles. He holds a Class B CDL with a motorcycle endorsement from Connecticut. His driving record for the last 3 years shows no crashes or convictions for moving violations in a CMV.

James S. Ayers

Mr. Ayers, 45, has amblyopia in his right eye. The best-corrected visual acuity in his right eye is 20/200 and in the left, 20/30. His ophthalmologist examined him in 2004 and noted, “In my opinion, you would appear to have sufficient vision to allow you to drive a light commercial vehicle.” Mr. Ayers reported that he has driven straight trucks for 14 years, accumulating 36,000 miles. He holds a Class C CDL with a motorcycle endorsement from Georgia. His driving record for the last 3 years shows no crashes or convictions for moving violations in a CMV.

Bruce Barrett

Mr. Barrett, 59, has amblyopia in his left eye since age 3. His visual acuity in the right eye is 20/25 and in the left, light perception. Following an examination in 2005, his optometrist noted, “Mr. Barrett has sufficient visual function to continue to perform the driving tasks required to safely operate a commercial vehicle.” Mr. Barrett reported that he has driven straight trucks for 38 years, accumulating 1.0 million miles. He holds a Class B CDL from West Virginia. His driving record for the last 3 years shows no crashes or convictions for moving violations in a CMV.

Norm Braden

Mr. Braden, 59, has a prosthetic right eye due to an injury he obtained in 1965. His visual acuity in the left eye is 20/20. Following an examination in 2005, his ophthalmologist noted, “In my medical opinion, he has sufficient vision to perform the driving tasks required to operate a commercial vehicle.” Mr. Braden reported that he has driven straight trucks for 18 years, accumulating 450,000 miles, and tractor-trailer combinations for 18 years, accumulating 180,000 miles. He holds a Class A CDL from Colorado. His driving record for the last 3 years shows one crash and no convictions for a moving violation in a CMV. According to the police report, as Mr. Braden attempted to make a right hand turn, the trailer struck a stop sign. Mr. Braden was not cited.

Levi A. Brown

Mr. Brown, 53, is blind in his right eye due to a childhood injury. The best-corrected visual acuity in his left eye is 20/20. Following an examination in 2005, his optometrist noted, “It is my opinion that he should be able to operate the commercial vehicles that he has been operating many years now.” Mr. Brown reported that he has driven straight trucks for 30 years, accumulating 60,000 miles, and tractor-trailer combinations for 17 years, accumulating 85,000 miles. He holds a Class A CDL from Montana. His driving record for the last 3 years shows no crashes or convictions for moving violations in a CMV.

Henry L. Chastain

Mr. Chastain, 56, lost vision in the left eye due to an injury. His best-corrected visual acuity in the right eye is 20/20 and in the left, hand motions. Following an examination in 2005, his optometrist noted, “It is my opinion that he has sufficient vision to perform the driving tasks required to operate a commercial vehicle.” Mr. Chastain reported that he has driven straight trucks for 35 years, accumulating 1.7 million miles, and tractor-trailer combinations for 12 years, accumulating 600,000 miles. He holds a Class A CDL from Georgia. His driving record for the last 3 years shows no crashes or convictions for moving violation in a CMV.

Thomas R. Crocker

Mr. Crocker, 59, has a prosthetic left eye due to an injury at age 13. His best-corrected visual acuity in the left eye is 20/20. Following an examination in 2004, his optometrist noted, “In my opinion, Mr. Crocker has sufficient vision to perform the driving tasks required to operate a commercial vehicle.” Mr. Crocker reported that he has driven straight trucks for 36 years, accumulating 360,000 miles, and tractor-trailer combinations for 33 years, accumulating 990,000 miles. He holds a Class D driver's license from South Carolina. His driving record for the last 3 years shows no crashes or convictions for moving violations in a CMV.

Clint Edwards

Mr. Edwards, 35, has amblyopia in his right eye since birth. His best-corrected visual acuity in the right eye is 20/400 and in the left, 20/15. Following an examination in 2005, his optometrist noted, “I feel he does have sufficient vision to perform the vision driving tasks required to operate a commercial vehicle.” Mr. Edwards reported that he has driven tractor-trailer combinations for 5 years, accumulating 459,000 miles. He holds a Class O driver's license from Nebraska. His driving record for the last 3 years shows one crash and no convictions for moving violations in a CMV. According to the reporting officer, while Mr. Edwards was attempting to make a left turn, his tractor-trailer collided with another vehicle due to snowy road conditions. Neither Mr. Edwards nor the driver of the other vehicle was cited in connection with the crash

Neil G. Finegan, Jr.

Mr. Finegan, 37, has a congenital cataract in his right eye. At age 5 he underwent cataract surgery with insertion of an intraocular lens implant. The best-corrected visual acuity in his right eye is light perception and in the left, 20/15. His optometrist examined him in 2005 and noted, “In my medical opinion Neil has sufficient vision to perform the driving tasks required to operate a commercial vehicle.” Mr. Finegan reported that he has driven straight trucks for 18 years, accumulating 720,000 miles, and tractor-trailer combinations for 18 years, accumulating 900,000 miles. He holds a chauffeur Class CA CDL from Michigan. Mr. Finegan's driving record for the last 3 years shows one crash and no convictions for moving violations in a CMV. Mr. Finegan's vehicle was struck by another truck that entered his lane. The truck's driver had fallen from his truck with the engine running and in gear. The other driver was found at fault for negligent operation of a vehicle. Neither driver was cited.

Gerald W. Fox

Mr. Fox, 59, has prosthetic left eye due to trauma incurred on December 23, 2001. The visual acuity in his right eye is 20/20. His optometrist examined him in 2005 and noted, “Mr. Fox's visual condition is stable and is sufficient to allow him to operate a commercial vehicle without restrictions.” Mr. Fox reported that he has driven tractor-trailer combinations for 34 years, accumulating 3.0 million miles. He holds a Class A CDL with a motorcycle endorsement from Pennsylvania. His driving record for the last 3 years shows no crashes or convictions for moving violations in a CMV.

Ronald Fultz

Mr. Fultz, 48, has traumatic maculopathy in his right eye since January 2002. His visual acuity in the right eye is 20/70 and in the left, 20/20. Following an examination in 2005, his ophthalmologist noted, “I feel that Mr. Fultz can still operate a commercial vehicle as he has done so since his injury in January 2001.” Mr. Fultz reported that he has driven straight trucks for 7 years, accumulating 1.7 million miles, and tractor-trailer combinations for 18 years, accumulating 1.6 million miles. He holds a Class A CDL with a Class D drivers license endorsement from Kentucky. His driving record for the last 3 years shows no crashes or convictions for moving violations in a CMV.

Henke Galloway

Mr. Galloway, 29, has a macular hole in his right eye due to an injury 12 years ago. The visual acuity in his right eye is 20/80 and in the left, 20/20. His optometrist examined him in 2005 and noted, “I consider Mr. Galloway completely qualified for this type of driving with no danger to himself or the public. It would be my recommendation to grant him an interstate driver's license with no restrictions.” Mr. Galloway reported that he has driven straight trucks for 5 years, accumulating 275,000 miles, and tractor-trailer combinations for 7 years, accumulating 770,000 miles. He holds a Class A CDL from Kansas. His driving record for the last 3 years shows no crashes or convictions for moving violations in a CMV.

Richard L. Gandee

Mr. Gandee, 49, has reduced visual acuity in his left eye due to a macular scar. The best-corrected visual acuity in his right eye is 20/15 and in the left, 20/50. His optometrist examined him in 2005 and noted, “I am of the opinion that his vision is sufficient to perform the driving tasks required to operate a commercial vehicle.” Mr. Gandee reported that he has driven straight trucks for 2 years, accumulating 260,000 miles, and tractor-trailer combinations for 21 years, accumulating 2.5 million miles. He holds a Class A CDL from Ohio. His driving record for the last 3 years shows no crashes or convictions for moving violations in a CMV.

Raymond A. Gravel

Mr. Gravel, 45, has had a retinal detachment in his right eye since 1974. The best-corrected visual acuity in his right eye is 20/400 and in the left, 20/25+. Following an examination in 2005 his optometrist noted, “Mr. Gravel has sufficient vision with glasses or contact lenses to operate a commercial vehicle.” Mr. Gravel reported that he has driven straight trucks for 5 years, accumulating 500,000 miles, tractor-trailer combinations for 7 years, accumulating 599,998 miles. He holds a Class A CDL from Vermont. His driving record for the last 3 years shows no crashes or convictions for moving violations in a CMV.

John C. Holmes

Mr. Holmes, 54, has amblyopia in his right eye since childhood. The best-corrected visual acuity in his right eye is 20/400 and in the left, 20/15. Following an examination in 2005 his ophthalmologist noted, “I feel he has sufficient vision to perform the driving tasks required to operate a commercial vehicle.” Mr. Holmes reported that he has driven straight trucks for 13 years, accumulating 507,000 miles, tractor-trailer combinations for 4 years, accumulating 100,000 miles, and buses for 2 years, accumulating 18,000 miles. He holds a Class B CDL from New York. His driving record for the last 3 years shows no crashes or convictions for moving violations in a CMV.

John L. Hynes

Mr. Hynes, 61, has amblyopia in his left eye since childhood. His best-corrected visual acuity in the right eye is 20/20 and in the left, 20/400. Following an examination in 2005, his optometrist noted, “Mr. Hynes” vision remains unchanged since childhood and/is has been sufficient to perform driving tasks for a commercial vehicle.” Mr. Hynes reported that he has driven straight trucks for 36 years, accumulating 360,000 miles, and tractor-trailer combinations for 15 years, accumulating 75,000 miles. He holds a Class A CDL from Illinois. His driving record for the last 3 years shows no crashes or convictions for moving violations in a CMV.

Kevin Jacoby

Mr. Jacoby, 38, has amblyopia and strabismus in his right eye since childhood. The visual acuity in his right eye is hand motions and in the left, 20/20. His optometrist examined him in 2005 and noted, “In my professional opinion, Mr. Jacoby has sufficient vision to operate a commercial vehicle.” Mr. Jacoby reported that he has driven straight trucks for 5 years, accumulating 75,000 miles. He holds a Class D driver's license from New Jersey. His driving record for the last 3 years shows no crashes or convictions for moving violations in a CMV.

Frank E. Johnson, Jr.

Mr. Johnson, 30, has had a corneal transplant in his left eye due to a childhood injury. The best-corrected visual acuity in his right eye is 20/20 and in the left, 20/400. Following an examination in 2005, his ophthalmologist noted, “I believe that Mr. Johnson does have adequate vision to perform the driving tasks required to operate this type of commercial vehicle.” Mr. Johnson reported that he has driven straight trucks for 11 years, accumulating 68,640 miles. He holds a Class C CDL from Florida. His driving record for the last 3 years shows no crashes or convictions for moving violations in a CMV.

Vladimir Kats

Mr. Kats, 56, has amblyopia in his left eye. His best-corrected visual acuity in the right eye is 20/20 and in the left, count finger. Following an examination in 2005, his optometrist noted, “In my opinion, Mr. Kats has sufficient vision to perform the driving tasks required to operate a commercial vehicle.” Mr. Kats reported that he has driven straight trucks for 4 years, accumulating 100,000 miles. He holds a Class C driver's license from North Carolina. His driving record for the last 3 years shows no crashes or convictions for moving violations in a CMV.

John G. Kaye

Mr. Kaye, 49, has had retinal detachment in his right eye since 1990. The best-corrected visual acuity in his right eye is 20/200 and in the left, 20/15. His optometrist examined him in 2005 and noted, “In my opinion, Mr. Kaye is qualified to drive a commercial vehicle with his current ocular status.” Mr. Kaye reported that he has driven straight trucks for 16 years, accumulating 160,000 miles. He holds a Class B CDL with a motorcycle endorsement from Massachusetts. His driving record for the last 3 years shows no crashes or convictions for moving violations in a CMV.

Alfred Keehn

Mr. Keehn, 56, has had a prosthetic right eye for the past two years. Prior to the prosthetic eye, Mr. Keehn has had reduced vision since birth in his right eye. The best-corrected visual acuity in the left eye is 20/20-3. Following an examination in 2005, his optometrist noted, “Mr. Keehn has sufficient vision to perform the driving tasks required to operate a commercial vehicle.” Mr. Keehn reported that he has driven straight trucks for 8 years, accumulating 200,000 miles, and tractor-trailer combinations for 30 years, accumulating 1.8 million miles. He holds a Class A CDL from Arizona. His driving record for the last 3 years shows no crashes or convictions for moving violations in a CMV.

Richard H. Kind

Mr. Kind, 43, has a central scar in his left eye due to an injury at age 15. His best-corrected visual acuity in the right eye is 20/15 and in the left, 20/200. Following an examination in 2004, his optometrist noted, “It is my opinion that with excellent vision in the right eye and normal peripheral vision in the left eye, Richard does possess sufficient visual abilities to operate a commercial vehicle.” Mr. Kind reported that he has driven straight trucks for 15 years, accumulating 300,000 miles, and tractor-trailer combinations for 15 years, accumulating 300,000 miles. He holds a Class A CDL from Washington State. His driving record for the last 3 years shows no crashes or convictions for moving violations in a CMV.

Paul Laffredo, Jr.

Mr. Laffredo, 63, has macular degeneration and posterior vitreous detachment in his right eye. His best-corrected visual acuity in the right eye is 20/200 and in the left, 20/20. Following an examination in 2005, his optometrist noted, “It is my opinion Mr. Laffredo has sufficient vision to operate a commercial vehicle at this time.” Mr. Laffredo reported that he has driven buses for 16 years, accumulating 960,000 miles. He holds a Class B CDL with a motorcycle endorsement from Pennsylvania. His driving record for the last 3 years shows no crashes and one conviction for a moving violation—speeding—in a CMV. He exceeded the speed limit by 15 mph.

Bobby G. LaFleur

Mr. LaFleur, 48, has esotropia with amblyopia in his left eye. His best-corrected visual acuity in the right eye is 20/30 and in the left, 20/80. Following an examination in 2005, his ophthalmologist noted, “I believe that he can see well enough to perform the driving tasks required to operate a commercial vehicle.” Mr. LaFleur reported that he has driven tractor-trailer combinations for 28 years, accumulating 2.4 million miles. He holds a Class A CDL from Louisiana. His driving record for the last 3 years shows no crashes or convictions for moving violations in a CMV.

Robert S. Larrance

Mr. Larrance, 56, suffered retinal detachment to his right eye with surgical repair in April of 2002. His best-corrected visual acuity in the right eye is hand motions and in the left, 20/20. Following an examination in 2005, his ophthalmologist noted, “My opinion is that this individual has sufficient vision to drive a commercial vehicle.” Mr. Larrance reported that he has driven straight trucks for 10 years accumulating 1.0 million miles, and tractor-trailer combinations for 26 years, accumulating 3.9 million miles. He holds a Class A CDL from Tennessee. His driving record for the last 3 years shows no crashes or convictions for moving violations in a CMV.

Earnest W. Lewis

Mr. Lewis, 60, has had poor vision in his left eye since 1997 due to central retinal artery occlusion. His best-corrected visual acuity in the right eye is 20/20, and in the left, hand motions. Following an examination in 2005, his ophthalmologist noted, “In my opinion, the patient's vision is sufficient to operate a commercial vehicle.” Mr. Lewis reported that he has driven straight trucks for 37 years, accumulating 1.2 million miles, and tractor-trailer combinations for 28 years, accumulating 2.2 million miles. He holds a Class A CDL from Virginia. His driving record for the last 3 years shows no crashes and one conviction for a moving violation—speeding—in a CMV. He exceeded the speed limit by 20 mph.

John D. McCormick

Mr. McCormick, 66, is blind in his right eye due to a traumatic injury in 1998. His best-corrected visual acuity in the right eye is light perception, and in the left eye, 20/20. Following an examination in 2004, his ophthalmologist noted, “In my opinion the monocular vision that you have present in the left eye is adequate to perform the driving tasks required to operate a commercial vehicle.” Mr. McCormick reported that he has driven straight trucks for 23 years, accumulating 483,000 miles, and tractor-trailer combinations for 22 years, accumulating 440,000 miles, and buses for 2 years, accumulating 220,000 miles. He holds a Class A CDL from Wyoming. His driving record for the last 3 years shows no crashes or convictions for moving violations in a CMV.

Thomas C. Meadows

Mr. Meadows, 41, has loss of vision in his left eye due to a traumatic injury in 2000. His visual acuity in the right eye is 20/20 and in the left, 20/50. Following an examination in 2005, his optometrist noted, “It is my opinion that Thomas Craig Meadows has sufficient vision to perform the driving tasks required to operate a commercial vehicle.” Mr. Meadows reported that he has driven tractor-trailer combinations for 20 years, accumulating 1.7 million miles. He holds a Class A CDL from North Carolina. His driving record for the last 3 years shows no crashes or convictions for moving violations in a CMV.

Timothy S. Miller

Mr. Miller, 48, has amblyopia in his right eye. His best-corrected visual acuity in the right eye is 20/50 and in the left, 20/20. Following an examination in 2004, his optometrist noted, “It is my opinion that Mr. Miller has sufficient vision to perform the driving tasks required to operate a commercial vehicle. Mr. Miller reported that he has driven tractor-trailer combinations for 21 years, accumulation 2.1 million miles. He holds a Class A CDL from California. His driving record for the last 3 years shows one conviction for moving violation—speeding—in a CMV. He exceeded the speed limit by 10 mph.

Roger D. Mollak

Mr. Mollak, 46, has amblyopia in his left eye since birth. The best-corrected visual acuity in his right eye is 20/20 and in the left, 20/200. His ophthalmologist examined him in 2005 and noted, “The patient's visual circumstance is unchanged in the last several years and I see no reason based on his vision, that he should not be able to operate a commercial vehicle.” Mr. Mollak reported that he has driven straight trucks for 26 years, accumulating 260,000 miles and tractor-trailer combinations for 5 years, accumulating 25,000 miles. He holds a Class O operators license from Nebraska. His driving record for the last 3 years shows no crashes or convictions for moving violations in a CMV.

Michael R. Moore

Mr. Moore, 39, has vision loss in his left eye due to a traumatic injury in 2001. The best-corrected visual acuity in his right eye is 20/20 and in the left, 20/200. His ophthalmologist examined him in 2005 and noted, “In my opinion, Mr. Moore should have sufficient vision to operate a commercial vehicle based on his continued operation for the past four years.” Mr. Moore reported that he has driven tractor-trailer combinations for 20 years, accumulating 1.1 million miles. He holds a Class A CDL from Maryland. His driving record for the last 3 years shows no crashes and one conviction for a moving violation—speeding—in a CMV. He exceeded the limit by 24 mph.

Jade D. Morrical

Mr. Morrical, 52, has a prosthetic left eye due to an injury in 1974. His visual acuity in the right eye is 20/20. Following an examination in 2005, his ophthalmologist noted, “I feel Mr. Morrical has sufficient vision to perform his duties as a commercial truck driver in that he has been doing this for many, many years and is well adapted from his visual deficiency.” Mr. Morrical reported that he has driven straight trucks and tractor-trailer combinations for 11 years, accumulating 132,000 miles in the former and 66,000 miles in the latter. He holds a Class A CDL from Colorado. His driving record for the last 3 years shows one crash and no convictions for moving violations in a CMV. According to the police report, a driver collided with the rear of Mr. Morrical's vehicle while he was slowing for traffic. Mr. Morrical was not cited.

David A. Morris

Mr. Morris, 48, has amblyopia in his left eye since childhood. The best-corrected visual acuity in his right eye is 20/20 and in the left, 20/70. Following an examination in 2005, his optometrist noted, “In my professional opinion, Mr. Morris has sufficient vision to perform the driving tasks required to operate a commercial vehicle.” Mr. Morris reported that he has driven straight trucks for 3 years, accumulating 120,000 miles, and tractor-trailer combinations for 26 years, accumulating 2.6 million miles. He holds a Class A CDL from Texas. His driving record for the last 3 years shows no crashes or convictions for moving violations in a CMV.

Leigh E. Moseman

Mr. Moseman, 61, primary visual problem is macular scar in his right eye. His best-corrected visual acuity in the right eye is 20/200 and in the left, 20/15. Following an examination in 2005, his optometrist noted, “In my opinion, Mr. Moseman has sufficient vision to perform the driving tasks required to operate a commercial vehicle.”

Mr. Moseman reported that he has driven straight trucks for 10 years accumulating 285,000 miles, and tractor-trailer combinations for 6 years, accumulating 52,000 miles. He holds a Class C driver's license from Texas. His driving record for the last 3 years shows no crashes or convictions for moving violations in a CMV.

Gary T. Murray

Mr. Murray, 49, has a prosthetic left eye resulting from trauma incurred in 1990. His best-corrected visual acuity in the right eye is 20/20. Following an examination in 2005, his optometrist noted, “In my opinion, Mr. Murray has sufficient vision to perform driving tasks required to operate a commercial vehicle.” Mr. Murray reported that he has driven straight trucks for 30 years accumulating 1.2 million miles, and tractor-trailer combinations for 27 years, accumulating 945,000 miles. He holds a Class A CDL from Georgia. His driving record for the last 3 years shows no crashes or convictions for moving violations in a CMV.

Larry D. Neely

Mr. Neely, 50, has amblyopia in his left eye since childhood. The best-corrected visual acuity in his right eye is 20/20 and in the left, counting fingers. His ophthalmologist examined him in 2005 and noted, “I certify in my medical opinion that Larry Neely has sufficient vision to perform the driving tasks required to operate a commercial vehicle.” Mr. Neely reported that he has driven straight trucks for 8 months, accumulating 25,000 miles, and buses for 2 years, accumulating 30,000 miles. He holds a Class B CDL from Illinois. His driving record for the last 3 years shows no crashes and two convictions for moving violations—speeding—and “disregarding traffic control light” in a CMV. He exceeded the speed limit by 15 mph.

Jorge L. Osuna

Mr. Osuna, 47, has a traumatic cataract and corneal scarring in his right eye due to an injury 20 years ago. His best-corrected visual acuity in the right eye is hand motion and in the left, 20/20. Following an examination in 2005, his optometrist noted, “Patient has adequate vision to perform driving tasks required to operate a commercial vehicle.” Mr. Osuna reported that he has driven straight trucks and tractor-trailer combinations for 9 years, accumulating 765,000 miles in each. He holds a Class A CDL from Arizona. His driving record for the last 3 years shows no crashes or convictions for moving violations in a CMV.

Joseph B. Peacock

Mr. Peacock, 27, has loss of vision in his left eye due to trauma at age 16. The best-corrected visual acuity in his right eye is 20/20 and in the left, 20/60. His optometrist examined him in 2005 and noted, “Based on his examination, I feel Mr. Peacock can safely operate a commercial vehicle at this time.” Mr. Peacock reported that he has driven straight trucks for 4 years, accumulating 20,000 miles, and tractor-trailer combinations for 4 years, accumulating in the former 30,000 miles. He holds a Class A CDL from North Carolina. His driving record for the last 3 years shows no crashes or convictions for moving violations in a CMV.

Scott D. Russell

Mr. Russell, 45, lost his left eye due to an injury 30 years ago. The best-corrected visual acuity in his right eye is 20/25. His optometrist examined him in 2005 and noted, “From a visual standpoint, in my opinion, this patient has sufficient vision to operate a commercial vehicle.” Mr. Russell reported that he has driven straight trucks for 15 years, accumulating 210,000 miles. He holds a Class B CDL from Minnesota. His driving record for the last 3 years shows no crashes or convictions for moving violations in a CMV.

Louis R. Saalinger

Mr. Saalinger, 68, lost the vision in his left eye due to an injury in 1965. The visual acuity in his right eye is 20/20. His optometrist examined him in 2005 and noted, “In my opinion, Mr. Saalinger has a perfect right eye with full fields, color vision and excellent acuity. With the proper mirrors he can continue to drive a commercial vehicle as he has for over 30+ years.” Mr. Saalinger reported that he driven straight trucks for 40 years, accumulating 400,000 miles, and tractor-trailer combinations for 40 years, accumulating 800,000 miles. He holds a Class A CDL with a motorcycle endorsement from Pennsylvania. His driving record for the last 3 years shows one crash and no convictions for moving violations in a CMV. Mr. Saalinger's vehicle was struck when another vehicle entered his travel lane. The other driver was cited. Mr. Saalinger was not cited.

James L. Schmidt

Mr. Schmidt, 37, is blind in his right eye due to an accident in 1981. The best-corrected visual acuity in his right eye is light perception and in the left, 20/20. His optometrist examined him in 2005 and noted, “With his spectacle prescription, Mr. Schmitt has sufficient vision to perform the driving tasks required to operate a commercial vehicle.” Mr. Schmitt reported that he has driven straight trucks for 20 years, accumulating 600,000 miles, and tractor-trailer combinations for 10 years, accumulating 1.0 million miles. He holds a Class A CDL from Nebraska. His driving record for the last 3 years shows no crashes or convictions for moving violations in a CMV.

Richard P. Stanley

Mr. Stanley, 47, has amblyopia in his left eye since birth. His best-corrected visual acuity in the right eye is 20/20 and in the left, 20/600. Following an examination in 2005, his ophthalmologist noted, “He has proven to be a safe and capable driver for the past ten years so I believe his vision is sufficient for him to operate commercial vehicles.” Mr. Stanley reported that he has driven straight trucks for 28 years, accumulating 840,000 miles, and tractor-trailer combinations for 28 years, accumulating 532,000 miles. He holds a Class A CDL with a motorcycle endorsement from Massachusetts. His driving record for the last 3 years shows no crashes or convictions for moving violations in a CMV.

Paul Stoddard

Mr. Stoddard, 48, has amblyopia in his left eye since early childhood. His visual acuity in the right eye is 20/20 and in the left, 20/200. Following an examination in 2005, his ophthalmologist noted, “In my medical opinion, he has sufficient vision to perform the driving tasks required to operate a commercial vehicle.” Mr. Stoddard reported that he has driven straight trucks for 21 years, accumulating 151,000 miles, tractor-trailer combinations for 21 years, accumulating 504,000 miles, and buses for 10 years, accumulating 5,000 miles. He holds a Class A CDL with a motorcycle endorsement from New York. His driving record for the last 3 years shows no crashes or convictions for moving violations in a CMV.

Robert L. Tankersley, Jr.

Mr. Tankersley, 43, had a corneal transplant in his left eye in 2000. His best-corrected visual acuity in the right eye is 20/25 and in the left, light perception. Following an examination in 2005, his optometrist noted, “In my medical opinion, he has sufficient vision to operate and perform driving tasks for operating a commercial vehicle.” Mr. Tankersley reported that he has driven straight trucks for 2 years accumulating 90,000 miles, and tractor-trailer combinations for 20 years, accumulating 2.5 million miles. He holds a Class A CDL from Mississippi. His driving record for the last 3 years shows no crashes or convictions for moving violations in a CMV.

Scott Tetter

Mr. Tetter, 43, has had an underdeveloped macular in his right eye since birth. His best-corrected visual acuity in the right eye is 20/200, and in the left, 20/20. Following an examination in 2005, his optometrist noted, “In my opinion Scott Tetter's vision is sufficient to operate a commercial vehicle.” Mr. Tetter reported that he has driven straight trucks for 24 years, accumulating 1.3 million miles. He holds a Class A CDL with a motorcycle endorsement from Illinois. His driving record for the last 3 years shows no crashes or convictions for moving violations in a CMV.

Benny R. Toothman

Mr. Toothman, 49, has misalignment of his right eye since birth. His best-corrected visual acuity in the right eye is count fingers, and in the left, 20/20. Following an examination in 2005, his optometrist noted, “In my medical opinion he will have no difficulty driving a commercial vehicle.” Mr. Toothman reported that he has driven a straight truck for 3 years, accumulating 4,500 miles. He holds a Class A CDL from Pennsylvania. His driving record for the last 3 years shows no crashes or convictions for moving violations in a CMV.

Dewayne Washington

Mr. Washington, 33, has optic atrophy in his left eye since childhood. The visual acuity in his right eye is 20/20 and in the left, light perception. His ophthalmologist examined him in 2005 and noted, “In my opinion, he does have sufficient vision to perform the driving tasks required to operate a commercial vehicle.” Mr. Washington reported that he has driven tractor-trailer combinations for 6 years, accumulating 468,000 miles. He holds a Class A CDL from North Carolina. His driving record for the last 3 years shows no crashes or convictions for moving violations in a CMV.

Kris Wells

Mr. Wells, 24, has a prosthetic left eye resulting from trauma incurred four years ago. The best-corrected visual acuity in his right eye is 20/15. His optometrist examined him in 2005 and noted, “In my opinion, Kris Wells” acuity and peripheral vision in the right eye are good and he should be able to operate a commercial vehicle safely.” Mr. Wells reported that he has driven straight trucks for 1 year, accumulating 100,000 miles, and tractor-trailer combinations for 6 years, accumulating 900,000 miles. He holds a Class A CDL from Arkansas. His driving record for the last 3 years shows no crashes or convictions for moving violations in a CMV.

James T. Wortham, Jr.

Mr. Wortham, 40, suffered a retinal detachment of his left eye in 1977. His visual acuity in the right eye is 20/20 and in the left, 20/400. Following an examination in 2005, his ophthalmologist noted, “In my opinion, this patient has sufficient vision to perform the driving tasks required to operate a commercial vehicle.” Mr. Wortham reported that he has driven straight trucks for 11 years, accumulating 198,000 miles. He holds a Class C driver's license from Georgia. His driving record for the last 3 years shows no crashes or convictions for moving violations in a CMV.

Request for Comments

In accordance with 49 U.S.C. 31315 and 31136(e), the FMCSA requests public comment from all interested persons on the exemption petitions described in this notice. We will consider all comments received before the close of business on the closing date indicated earlier in the notice.

Issued on: September 26, 2005.
Pamela M. Pelcovits,
Director, Policy, Plans and Regulation.

[FR Doc. 05-19595 Filed 9-29-05; 8:45 am]

BILLING CODE 4910-EX-P